DEPARTMENT OF AGRICULTURE

Office of the Secretary

DEPARTMENT OF THE INTERIOR

Office of the Secretary

Unified Federal Policy for Ensuring a Watershed Approach to Federal Land and Resource Management

AGENCIES: Office of the Secretary, USDA; Office of the Secretary, Interior.

ACTION: Proposed policy; extension of comment period.

SUMMARY: On February 22, 2000, the Department of Agriculture and the Department of the Interior published a proposed unified Federal policy for ensuring a watershed approach to Federal land and resource management (65 FR 8834). In response to comments from the public requesting additional time to fully analyze the issues and prepare comprehensive comments, the Departments of Agriculture and the Interior are extending the comment period to May 24, 2000.

DATES: Comments must be received by May 24, 2000.

ADDRESSES: You may send or hand deliver written comments to: USDA-Forest Service, Content Analysis Enterprise Team, Attn: UFP, Building 2, Suite 295, 5500 Amelia Earhart Drive, Salt Lake City, UT 84116. You may also fax comments to (801) 517-1021 or submit comments electronically to cleanwater/wo_caet-slc@fs.fed.us. Comments are available for public inspection and copying at the address above during regular business hours (8:00 a.m. to 5:00 p.m., Monday through Friday, except Federal holidays). You are encouraged to call (801) 517-1037 to arrange a time to inspect the comments received. Individuals who use a telecommunications device for the deaf (TDD) may call the Federal Information Relay Service at 1-800-877-8339. All comments will also be available electronically for public inspection at the close of the comment period via the Internet at http://www.cleanwater.gov/ufp.

FOR FURTHER INFORMATION CONTACT: Eric Janes, Rangelands, Soil and Water Group, Bureau of Land Management, Department of the Interior or Karen Solari, Watershed and Air Management Staff, Forest Service, Department of Agriculture, at (801) 517-1037. A copy of the proposed unified Federal policy is available via the Internet at http://www.cleanwater.gov/ufp or a copy may be obtained by calling the USDA-Forest Service Content Analysis Enterprise Team at (801) 517-1037. Individuals who use a telecommunications device for the deaf (TDD) may call the Federal Information Relay Service at 1-800-877-8339.

For the Department of Agriculture.
Dated: April 19, 2000.
James R. Lyons,
Under Secretary, Natural Resources and Environment.
For the Department of the Interior.
Dated: April 14, 2000.
Sylvia V. Baca,
Assistant Secretary, Land and Minerals Management.

[FR Doc. 00-10148 Filed 4-21-00; 8:45 am]

BILLING CODE 3410-11-P